DEPARTMENT OF COMMERCE

National Oceanic and Atmospheric Administration

DEPARTMENT OF THE INTERIOR

Fish and Wildlife Service

[I.D. 051806G]

Marine Mammals and Endangered Species; National Marine Fisheries Service File No. 31-1741; U.S. Fish and Wildlife Service File No. MA081663

AGENCY: National Marine Fisheries Service (NMFS), National Oceanic and Atmospheric Administration (NOAA); U.S. Fish and Wildlife Service (FWS), Interior.

ACTION: Notice; receipt of application for amendment.

SUMMARY: Notice is hereby given that the Wildlife Conservation Society (WCS), 2300 Southern Blvd., Bronx, NY 10460 (Dr. Howard C. Rosenbaum, Principal Investigator) has requested an amendment to scientific research Permit No. 31-1741/MA081663.

DATES: Written or telefaxed comments must be received on or before July 13, 2006.

ADDRESSES: The application request and related documents are available for review upon written request or by appointment in the following office(s):

U.S. Fish and Wildlife Service, Division of Management Authority, 4401 North Fairfax Drive, Room 700, Arlington, VA 22203; phone (800) 358-2104; fax (703) 358-2281; and

Permits, Conservation and Education Division, Office of Protected Resources, NMFS, 1315 East-West Highway, Room 13705, Silver Spring, MD 20910; phone (301) 713-2289; fax (301) 427-2521.

Written comments or requests for a public hearing on this application should be mailed to the Chief, Branch of Permits, Division of Management Authority, U.S. Fish and Wildlife Service, 4401 North Fairfax Drive, Room 700, Arlington, VA 22203. Those individuals requesting a hearing should set forth the specific reasons why a hearing on this particular request would be appropriate.

Comments may also be submitted by facsimile at (703) 358-2281, provided the facsimile is confirmed by hard copy submitted by mail and postmarked no later than the closing date of the comment period.

Comments may also be submitted by e-mail. The mailbox address for providing e-mail comments is managementauthority@fws.gov; include in the subject line of the e-mail comment the following document identifier: File No. 31-1741/MA081663.

FOR FURTHER INFORMATION CONTACT: Monica Farris, Division of Management Authority, US Fish and Wildlife Service, (703) 358-2104.

SUPPLEMENTARY INFORMATION: The subject permit amendment is requested under the authority of the Marine Mammal Protection Act of 1972, as amended (MMPA; 16 U.S.C. 1361 et seq.) and the regulations governing the taking and importing of marine mammals (50 CFR parts 18).

The WCS Conservation Genetics Program, a collaboration between WCS and the American Museum of Natural History, maintains one of the largest collections of marine mammal tissues and specimens in the world. WCS wishes to amend their current permit to obtain, import and export/re-export specimens and materials from polar bears (Ursus maritimus), including shed hair, feces, and DNA and tissue samples from the wild, tissue banks, and collaborators. Such tissues would be obtained by co-investigators or other named individuals and institutions working under their own permits. Export of specimens or tissues, irrespective of their source, would be made on temporary loan basis only to bona fide institutions for the sole purpose of exhibit or scientific research. The permit would be amended for the remainder of the 5-year period of the currently authorized permit.

In compliance with the National Environmental Policy Act of 1969 (42 U.S.C. 4321 et seq.), an initial determination has been made that the activities proposed are categorically excluded from the requirement to prepare an environmental assessment or environmental impact statement.

Concurrent with the publication of this notice in the Federal Register, FWS is forwarding copies of this application to the Marine Mammal Commission and its Committee of Scientific Advisors.

Dated: June 7, 2006.
Charlie R. Chandler,
Chief, Branch of Permits, Division of Management Authority, U.S. Fish and Wildlife Service.

Dated: June 7, 2006.
P. Michael Payne,
Chief, Permits, Conservation and Education Division, Office of Protected Resources, National Marine Fisheries Service.

[FR Doc. E6-9208 Filed 6-12-06; 8:45 am]

BILLING CODE 3510-22-S